DEPARTMENT OF HEALTH AND HUMAN SERVICES

National Toxicology Program (NTP); Report on Carcinogens (RoC); Availability of the Draft Background Document for Cobalt-Tungsten Carbide Powders and Hard Metals; Request for Comments on the Draft Background Document; Announcement of the Cobalt-Tungsten Carbide Powders and Hard Metals Expert Panel Meeting

AGENCY: National Institute of Environmental Health Sciences (NIEHS); National Institutes of Health (NIH).

ACTION: Availability of Background Document; Request for Comments; and Announcement of a Meeting.

SUMMARY: The NTP announces the availability of the draft background document for cobalt-tungsten carbide powders and hard metals by October 10, 2008 on the RoC Web site (http://ntp.niehs.nih.gov/go/29679) or in printed text from the RoC (see ADDRESSES below). The NTP invites the submission of public comments on the draft background document for cobalt-tungsten carbide powders and hard metals. The expert panel will meet on December 9-10, 2008, at the Sheraton Chapel Hill Hotel, One Europa Drive, Chapel Hill, NC 27514 to peer review the draft background document for cobalt-tungsten carbide powders and hard metals and, once completed, make a recommendation regarding the listing status (i.e., known to be a human carcinogen, reasonably anticipated to be a human carcinogen, or not to list) for cobalt-tungsten carbide powders and hard metals in the 12th Edition of the RoC (12th RoC). The RoC expert panel meeting is open to the public with time scheduled for oral public comments. Attendance is limited only by the available meeting room space. Following the expert panel meeting and completion of the expert panel report, the NTP will post the final background document and the expert-panel peer review report on the RoC Web site.

DATES: The expert panel meeting for cobalt-tungsten carbide powders and hard metals will be held on December 9-10, 2008. The draft background document for cobalt-tungsten carbide powders and hard metals will be available for public comment by October 10, 2008. The deadline to submit written comments is November 24, 2008, and the deadline for pre-registration to attend the meeting and/or to provide oral comments at the meeting is December 1, 2008.

ADDRESSES: The RoC expert panel meeting on cobalt-tungsten carbide powders and hard metals will be held at Sheraton Chapel Hill Hotel, One Europa Drive, Chapel Hill, NC 27514. Access to on-line registration and materials for the meeting are available on the RoC Web site (http://ntp.niehs.nih.gov/go/29679). Comments on the draft background document should be sent to Dr. Ruth M. Lunn, NIEHS, P.O. Box 12233, MD EC-14, Research Triangle Park, NC 27709, FAX: (919) 541-0144, or lunn@niehs.nih.gov. Courier address: Report on Carcinogens Office, 79 T.W. Alexander Drive, Building 4401, Room 3118, Research Triangle Park, NC 27709. Persons needing interpreting services in order to attend should contact 301-402-8180 (voice) or 301-435-1908 (TTY). Requests should be made at least seven business days in advance of the meeting.

FOR FURTHER INFORMATION CONTACT: Dr. Ruth M. Lunn, Director, RoC Office, 919-316-4637, lunn@niehs.nih.gov.

SUPPLEMENTARY INFORMATION:

Background

The NTP announced the RoC review process for the 12th RoC on April 16, 2007 in the Federal Register (72FR18999 available at http://ntp.niehs.nih.gov/go/15208). An expert panel meeting is being convened on December 9-10, 2008, to review cobalt-tungsten carbide powders and hard metals for possible listing in the 12th RoC. The draft background document for cobalt-tungsten carbide hard metals and powders will be available on the RoC Web site by October 10, 2008 or in printed text from the RoC Office (see ADDRESSES above). Persons can register free-of-charge with the NTP listserv to receive notification when draft RoC background documents for candidate substances for the 12th RoC are made available on the RoC Web site (http://ntp.niehs.nih.gov/go/231).

Cobalt-tungsten carbide hard metals are composites of carbides (including tungsten carbide alone or in combination with small amounts of other carbides) with a metallic cobalt binder, pressed into a compact, solid form at high temperatures by a process known as “sintering.” Cobalt-tungsten carbide hard metals are used primarily in cutting tools. Cobalt-tungsten carbide hard metals are manufactured and used in the United States. Occupational exposure to cobalt-tungsten carbide hard-metal particles can occur during hard-metal production, recycling of hard-metal products, and grinding and sharpening of hard-metal tools.

Preliminary Agenda, Request for Comments, and Registration

Preliminary agenda topics include:

• Oral public comments on cobalt-tungsten carbide powders and hard metals.

• Peer review of the draft background document on cobalt-tungsten carbide powders and hard metals.

• Recommendation for listing status in the 12th RoC for cobalt-tungsten carbide powders and hard metals and scientific justification.

The meeting is scheduled for December 9-10, 2008, from 8:30 a.m. to adjournment each day. A copy of the preliminary agenda, expert panel roster, and any additional information, when available, will be posted on the RoC Web site or may be requested from the Director of the RoC Office (see ADDRESSES above). Individuals who plan to attend the meeting are encouraged to register on-line by December 1, 2008, to facilitate planning for the meeting.

Request for Comments

The NTP invites both written and oral public comments on the draft background document on cobalt-tungsten carbide powders and hard metals. All written comments received will be posted on the RoC Web site prior to the meeting and distributed to the expert panel and RoC staff for their consideration in the peer review of the draft background document and/or preparation for the expert panel meeting. Persons submitting written comments are asked to include their name and contact information (affiliation, mailing address, telephone and facsimile numbers, e-mail, and sponsoring organization, if any) and send them to Dr. Lunn (see ADDRESSES above) for receipt by November 24, 2008. Time will be set aside at the expert panel meeting for the presentation of oral public comments. Seven minutes will be available for each speaker (one speaker per organization). Persons can register on-line to present oral comments or contact Dr. Lunn (see ADDRESSES above). When registering to comment orally, please provide your name, affiliation, mailing address, telephone and facsimile numbers, e-mail and sponsoring organization (if any). If possible, send a copy of the statement or talking points to Dr. Lunn by December 1, 2008. This statement will be provided to the expert panel to assist them in identifying issues for discussion and will be noted in the meeting record. Registration for presentation of oral comments will also be available at the meeting on December 9-10, 2008, from 7:30-8:30 a.m. Time allowed for comments by on-site registrants may be less than for pre-registered speakers and will be determined by the number of persons who register at the meeting. Persons registering at the meeting are asked to bring 25 copies of their statement or talking points for distribution to the expert panel and for the record.

Background Information on the RoC

The RoC is a congressionally mandated document [Section 301(b)(4) of the Public Health Services Act, 42 U.S.C. 241(b)(4)], that identifies and discusses agents, substances, mixtures, or exposure circumstances (collectively referred to as “substances”) that may pose a hazard to human health by virtue of their carcinogenicity. Substances are listed in the report as either known or reasonably anticipated to be human carcinogens. The NTP prepares the RoC on behalf of the Secretary of Health and Human Services. Information about the RoC and the nomination process can be obtained from its homepage (http://ntp.niehs.nih.gov/go/roc) or by contacting Dr. Lunn (see FOR FURTHER INFORMATION CONTACT above). The NTP follows a formal, multi-step process for review and evaluation of selected substances. The formal evaluation process is available on the RoC Web site (http://ntp.niehs.nih.gov/go/15208) or in printed copy from the RoC Office.

Dated: October 2, 2008.
Samuel H. Wilson,
Acting Director, National Institute of Environmental Health Sciences and National Toxicology Program.

[FR Doc. E8-24102 Filed 10-9-08; 8:45 am]

BILLING CODE 4140-01-P